ENVIRONMENTAL PROTECTION AGENCY

40 CFR Part 300

[FRL-7971-3]

National Oil and Hazardous Substance Pollution Contingency Plan; National Priorities List

AGENCY: Environmental Protection Agency.

ACTION: Direct final notice of partial deletion of the East Tailing Area of the Tar Lake Superfund Site from the National Priorities List.

SUMMARY: The Environmental Protection Agency (EPA), Region 5 is publishing a notice of partial deletion of the East Tailing Area of the Tar Lake Superfund Site (Site), located in, Antrim County Michigan, from the National Priorities List (NPL).

The NPL, promulgated pursuant to section 105 of the Comprehensive Environmental Response, Compensation, and Liability Act (CERCLA) of 1980, as amended, in appendix B of 40 CFR part 300, which is the National Oil and Hazardous Substances Pollution Contingency Plan (NCP). This notice of partial deletion is being published by EPA with the concurrence of the State of Michigan, through the Michigan Department of Environmental Quality (MDEQ). Remedial investigation results in the East Tailing Area of the Tar Lake Site have shown that no threat to public health or the environment exist and, therefore, the taking of remedial measures under CERCLA is not necessary at this time.

DATES: This notice of partial deletion will be effective November 21, 2005, unless EPA receives adverse comments by October 21, 2005. If adverse comments are received, EPA will publish a timely withdrawal of the notice of partial deletion in the Federal Register informing the public that the partial deletion will not take effect.

ADDRESSES: Comments may be mailed to: Stuart Hill, Community Involvement Coordinator, U.S. EPA (P-19J), 77 W. Jackson Blvd., Chicago, IL 60604. Electronic comments may be sent to bloom.thomas@epa.gov.

Information Repositories: Comprehensive information about the Site is available for viewing and copying at the Site information repositories located at: EPA Region 5 Record Center, 77 W. Jackson, Chicago, Il 60604, (312) 353-5821, Monday through Friday 8 a.m. to 4:00 p.m.; Mancelona Public Library, 202 W. State Street, Mancelona, MI 49945, (231) 587-9451. Monday through Friday 8 a.m. to 4 p.m., Tuesday and Thursday 6 p.m to 8 p.m.

FOR FURTHER INFORMATION CONTACT: Thomas Bloom, Remedial Project Manager at (312) 886-1967, bloom.thomas@epa.gov or Gladys Beard, State NPL Deletion Process Manager at (312) 886-7253, Beard.Gladys@EPA.Gov or 1-800-621-8431, (SR-6J), U.S. EPA Region 5, 77 W. Jackson, Chicago, IL 60604.

SUPPLEMENTARY INFORMATION:

Table of Contents

I. Introduction

II. NPL Partial Deletion Criteria

III. Partial Deletion Procedures

IV. Basis for Partial Deletion

V. Partial Deletion Action

I. Introduction

EPA Region 5 is publishing this notice of partial deletion of the East Tailing Area of the Tar Lake, Superfund Site from the NPL. The East Tailing Area of the Tar Lake Site, as described in the Remedial Investigation Report for Operable Unit 2, August 7, 2000, consists of approximately 40 acres of land east of Peckham Lake.

The EPA identifies sites that appear to present a significant risk to public health or the environment and maintains the NPL as the list of those sites. As described in section 300.425(e)(3) of the NCP, sites partially deleted from the NPL remain eligible for remedial actions if conditions at the partially deleted site warrant such action.

This action will be effective November 21, 2005 unless EPA receives adverse comments by October 21, 2005, on this document. If adverse comments are received within the 30-day public comment period on this document, EPA will publish a timely withdrawal of this partial deletion before the effective date of the partial deletion and the partial deletion will not take effect. EPA will, as appropriate, prepare a response to comments and continue with the partial deletion process on the basis of the notice of intent to partially delete and the comments already received. There will be no additional opportunity to comment.

Section II of this document explains the criteria for partial deletion of sites from the NPL. Section III discusses procedures that EPA is using for this action. Section IV discusses the East Tailing Area of the Tar Lake Superfund Site and demonstrates how it meets the partial deletion criteria. Section V discusses EPA's action to partially delete the East Tailing Area from the NPL unless adverse comments are received during the public comment period.

II. NPL Partial Deletion Criteria

Section 300.425(e) of the NCP provides that releases may be partially deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) responses under CERCLA have been implemented, and no further response action by responsible parties is appropriate; or

iii. The remedial investigation has shown that the release poses no significant threat to public health or the environment and, therefore, the taking of remedial measures is not appropriate.

Even if a portion of a site is deleted from the NPL, where hazardous substances, pollutants, or contaminants remain at the portion of the deleted site above levels that allow for unlimited use and unrestricted exposure, CERCLA section 121(c), 42 U.S.C. 9621(c), requires that a subsequent review of the deleted portion of the site be conducted at least every five years after the initiation of the remedial action at the site to ensure that the action remains protective of public health and the environment. If new information becomes available which indicates a need for further action, EPA may initiate remedial actions. Whenever there is a significant release from the portion deleted from the NPL, the deleted portion of the site may be restored to the NPL without application of the hazard ranking system.

III. Partial Deletion Procedures

The following procedures apply to partial deletion of this Site:

(1) The EPA consulted with the State of Michigan on the partial deletion of the East Tailing Area of the Site from the NPL prior to developing this notice of partial deletion.

(2) Michigan concurred with partial deletion of the East Tailing Area of the Site from the NPL.

(3) Concurrently with the publication of this notice of partial deletion, a notice of intent to partially delete is published today in the “Proposed Rules” section of the Federal Register, is being published in a major local newspaper of general circulation at or near the Site, and is being distributed to appropriate federal, state, and local government officials and other interested parties. The newspaper notice announces the 30-day public comment period concerning the notice of intent to partially delete the East Tailing Area of the Site from the NPL.

(4) The EPA placed copies of documents supporting the partial deletion of the East Tailing Area in the Site information repositories identified above.

(5) If adverse comments are received within the 30-day public comment period on this document, EPA will publish a timely notice of withdrawal of this notice of partial deletion before its effective date and will prepare a response to comments and continue with a decision on the partial deletion based on the notice of intent to partially delete and the comments already received.

Partial deletion of the East Tailing Area of the Site from the NPL does not itself create, alter, or revoke any individual's rights or obligations. Partial deletion of the East Tailing Area of the Site from the NPL does not in any way alter EPA's right to take enforcement actions, as appropriate. The NPL is designed primarily for informational purposes and to assist EPA management. Section 300.425(e)(3) of the NCP states that the partial deletion of a site from the NPL does not preclude eligibility for future response actions should future conditions warrant such actions.

IV. Basis for Partial Deletion

The following information provides EPA's rationale for deleting the East Tailing Area of this Site from the NPL:

Site Location

The Tar Lake Superfund site (the Site) is located in Mancelona Township, Antrim County, Michigan. It is a former iron manufacturing facility that operated between 1882 and 1945. Response actions at the Tar Lake Superfund site have been separated into two operable units. The first operable unit (OU1), addressed tar contamination in a 4-acre depression of the 200-acre site by removing and transporting approximately 47,000 tons of tar to an energy recovery facility. The second operable unit (OU2), addressed remaining contamination throughout the 200-acre site.

Site History

Beginning in 1882 and continuing through 1945, the Tar Lake site was the location of an iron production facility. The Antrim Iron Works Company used the charcoal method to produce iron. In 1910, the Antrim Iron Works Company began producing charcoal in sealed retorts from which pyroligneous (made by destructive distillation of wood) liquor was recovered. A secondary chemical manufacturing process was applied to the recovered pyroligneous liquor at the iron works. The pyroligneous liquor was further processed into calcium acetate, methanol, acetone, creosote oil, and a tarry-like waste residue—referred to throughout this document as tar. The tar was discharged into a 4-acre on-site depression. The secondary chemical process generated tar waste until 1944. Tar and water that remained in this depression are referred to as Tar Lake. As early as 1949, the groundwater coming from the Tar Lake was discovered to be contaminated with phenolic compounds. Tar Lake caught fire in 1969 and burned for several months before being extinguished by natural action.

Mount Clemens Metal Products Company owned and periodically used the Tar Lake area of the Site for waste disposal from 1957 until 1967. Gulf and Western Manufacturing Company, successor to Mount Clemens Metal Products Company, owned the property from 1967 to approximately 1982. In December 1982, Gulf and Western Manufacturing Company dissolved due to a merger with Gulf and Western, Inc. In 1985, Gulf and Western Inc., sold the property to Fifty-Sixth Century Antrim Iron Works Company (56th Century). In April 1989, Gulf and Western Inc., merged with Paramount Communications, Inc. Officials of 56th Century, at the Tar Lake site are employees of Paramount Communications Realty Corporation, a wholly-owned subsidiary of Paramount Communications, Inc. In 1994, Viacom International, Inc., acquired Paramount Communications, Inc., and 56th Century is currently a subsidiary of French Street Management, Inc., a subsidiary of Viacom International, Inc. In November 1999, the Community Resource Development (CRD) Inc., a non-profit community development organization, purchased approximately 88 acres of the 200 acre Tar Lake site. Current property owners include CRD Inc., Collins Aikman Products, Mancelona Township, and Mr. John Apfel.

The Tar Lake site was placed on the National Priorities List (NPL) in September 1983. On April 21, 1986, the U.S. EPA and 56th Century, a subsidiary of Viacom International, Inc., signed an Administrative Order on Consent (AOC 1986) which required that 56th Century conduct a two-phase Remedial Investigation (RI). Phase I was to develop a Preliminary Endangerment Assessment (PEA). Phase II was to be a more detailed investigation based on the results of the PEA. 56th Century installed a fence around the 4-acre Tar Lake and included an additional 14 acres of the Retort and Chemical Production Area where on-site structures and waste piles existed.

The PEA was submitted in October 1988, and it concluded that the contaminants in the groundwater did not pose a threat. EPA found the PEA to be deficient because it relied upon data which were inadequately and incompletely collected, and its conclusions were not adequately supported. EPA did not approve the PEA. In 1989, 56th Century performed additional investigative-type work required by EPA. This additional work found that there was a connection between the tar and groundwater. Groundwater beneath Tar Lake was found to contain over 50 compounds that were also found in the tar. It also was discovered that benzene and styrene were present in on-site groundwater at levels above the Safe Drinking Water Act—Maximum Contaminant Levels (MCLs). EPA determined that a source control and groundwater containment Operable Unit (OU1) was appropriate for the Site.

The 1986 AOC was amended in August 1990 to have 56th Century conduct a Phased Feasibility Study Report, to address OU1. 56th Century submitted an unacceptable Phased Feasibility Study Report which utilized a risk assessment based on the unapproved PEA. EPA took over the preparation of the Phased Feasibility Study report. EPA completed the report in March 1992. A Record of Decision (ROD for OU1) was issued in September 1992, selecting consolidation of the tar and contaminated soil in on-site Resource Conservation and Recovery Act (RCRA) containment cells and interim groundwater treatment. A second Operable Unit (OU2) was planned to address final groundwater clean up.

Pre-design studies were conducted at the Tar Lake site from October 1993 to June 1994. The pre-design studies yielded data about tar management alternatives and media treatability which resulted in a reassessment of the selected remedial alternative presented in the 1992 ROD for OU1. An Explanation of Significant Differences (ESD for OU1) was issued in July 1998, which documents modification to the tar component of the 1992 ROD for OU1. The ESD for OU1 explained that instead of storing the excavated tar on site in RCRA containment cells, tar would be transported off site to an end-user or an energy recovery facility.

In July 1998, EPA began a response action which included the excavation and transportation of tar from the 4-acre Tar Lake. In July 1999, EPA completed the removal of 47,043 tons of tar and tar debris, backfilled the 4-acre tar lake depression with 1-foot of clean soil, and installed a temporary poly-liner in the lower areas of the 4-acre tar lake depression. MDEQ took on the responsibility of the management of storm water collected in the liner. The tar from Tar Lake was transported to two energy recovery facilities. In conjunction with EPA's response action, MDEQ installed and began to operate, on an intermittent basis, an in-situ biosparge system for on-site groundwater treatment. Currently, the in-situ biosparge system is operated approximately 8 hours per day, seven days per week. From November 1999 to June 2002, MDEQ provided bottled water to residents with site-related iron and manganese concentrations in their off-site groundwater wells above State Secondary Drinking Water Standards. Currently, a State funded municipal water system has been extended to the affected residents.

Remedial Investigation and Feasibility Study (OU2)

In June 1999, EPA conducted RI fieldwork to address OU2. The RI for OU2 investigated residual contamination remaining beneath the 4-acre Tar Lake and surface areas potentially impacted by the Antrim Iron Works Company's iron manufacturing processes. Historical information was researched and the knowledge gained was used to identify several production areas and the operational history of the iron manufacturing processes that may have produced potential areas of concern.

Within the 200-acre Tar Lake site, (the Iron Production Area, Creosote Area, Nelson Lake, Peckham Lake, East Tailing Area, Tar Lake Area, and Retort and Chemical Production Area), surface and subsurface soil, sediment, surface water and on-site groundwater samples were collected and analyzed for general chemistry, metals, phenolic compounds, volatile organic compounds (VOCs) and semi-volatile organic compounds (SVOCs).

Off-site areas of concern investigated were a drainage ditch adjacent to the site, off-site groundwater and a seepage area where off-site groundwater discharges to Saloon Creek. Samples collected from off-site areas were analyzed for general chemistry, metals, phenolic compounds, volatile organic compounds (VOCs) and semi-volatile organic compounds (SVOCs). Results of the RI for OU2 indicated that approximately 45,000 tons of residual tar remained in the “rind” beneath the 4-acre depression and was the source of on-site groundwater contamination.

During the RI, it was determined that benzene in on-site groundwater presented an unacceptable risk because it was above maximum contaminant levels, and levels of 2,4-dimethylphenol exceeded the State drinking water standards. In addition, tar/creosote waste was discovered on the surface in the Creosote Area which also presented an unacceptable risk.

Record of Decision for OU2 Findings

In February 2002, the ROD for OU2 was issued to address these unacceptable risks. Components of this selected remedy were:

a. Removal of on-site foundations and miscellaneous debris impeding remedation;

b. Removal of the poly-liner to enhance infiltration of precipitation to flush contaminants to groundwater;

c. Bioventing of approximately 45,000 tons of rind material;

d. Installation of a groundwater circulation system for approximately 45,000 tons of rind material;

e. Continued operation of the on-site groundwater biosparge system to treat contaminants in the on-site groundwater (costs $48,000 per year);

f. Institutional controls including recording legal notices on property deeds to restrict on-site groundwater use;

g. Long-term monitoring to assess groundwater conditions over time ($2,000 per event): and

h. Excavation of approximately 15,000 tons of tar/creosote waste from the Creosote Area and transportation to an energy recovery facility.

On page 2 of the Declaration section, and on page 27 of the Decision Summary section in the 2002 ROD for OU2, it was explained that EPA would evaluate the amount of rind beneath the 4-acre depression and determine whether it would be more cost effective to remove the rind rather than install the bioventing and groundwater circulation systems. Results of predesign data collection, which followed the RI for OU2, indicated that there was approximately 21,000 tons of rind in the 4-acre depression, as compared to the initial estimate of 45,000 tons. In addition, the amount of tar/creosote waste found in the Creosote Area amounted to only 225 tons, as compared to 15,000 tons. In September 2004, an Explanation of Significant Differences (ESD for OU2) was issued to document a change of two remedial action components from bioventing and groundwater circulation of the rind to excavation and off-site disposal. The remedial action component to address tar/creosote waste found in the Creosote Area was changed from excavation and transportation to an energy recovery facility to excavation and off-site disposal.

Through groundwater modeling and groundwater sampling conducted during the RI for OU2, EPA was confident that if the rind was removed, on-site groundwater would decrease to acceptable levels in between one to three years. Evaluation of current groundwater monitoring data upgradient and downgradient of the biosparge system indicates that the biosparge system is operating as designed and is effective. Contamination was not found in the East Tailing Area of the Tar Lake Site. EPA does not anticipate an adverse impact from this partial deletion. The East Tailing Area is upgradient from the contaminated rind and EPA has no further concern with groundwater beneath the East Tailing Area.

Characterization of Risk

The Remedial Investigation for OU2 has shown that there is no contamination present in the East Tailing Area. Therefore, there is not an unacceptable risk in the East Tailing Area. No additional response action is required at the East Tailing Area of the Tar Lake Site. The current conditions at the East Tailing Area are protective of human health and the environment.

Response Action for OU2

On June 14, 2004, EPA began remedial construction activities. Site preparation such as mobilization of equipment, road building, pad construction and removal of top soil and overburden continued until July 3, 2004. Approximately 4,000 cubic yards of top soil and 8,000 cubic yards of overburden (non-impacted soil and slag) were excavated from the 4-acre depression above the rind.

On July 7, 2004 and continuing through August 28, 2004, 21,482 tons of rind and 225 tons tar/creosote waste from the Creosote Area were excavated and disposed of locally at an approved RCRA Subtitle D landfill in Federick, Michigan. Removal of on-site foundations and miscellaneous debris impeding remediation and removal of the poly-liner to enhance infiltration were also completed. Remedial action costs associated with these activities were approximately $1,200,000.

A pre-final inspection was conducted by EPA and MDEQ on September 20, 2004. Site restoration activities such as backfilling, regrading and seeding the 4-acre depression had been properly conducted. Decontamination and demobilization of all equipment was completed at that time. The work trailers were demobilized the following day, which was September 21, 2004. EPA and MDEQ have determined that RA construction activities have been performed according to specifications and anticipate that removal and off-site disposal of the rind material will meet remedial action objectives for the Tar Lake Site.

Cleanup Standards

The objectives of the remedies were to ensure that by source removal, off-site groundwater would decrease over time and within 3 years, on-site groundwater would decrease to an acceptable level.

Operation and Maintenance

As part of the remedy requirement for long-term monitoring, EPA and MDEQ will conduct three groundwater sampling events per year. In addition, MDEQ will continue to operate the on-site biosparge system to treat residual contamination in the on-site groundwater.

Five-Year Review

Because hazardous substances will remain at other portions of the Tar Lake Site above levels that allow for unrestricted use and unlimited exposure, the EPA will conduct periodic reviews at this Site. The review will be conducted pursuant to CERCLA 121(c) and as provided in the current guidance on Five Year Reviews; OSWER Directive 9355.7-03B-P, Comprehensive Five-Year Guidance, June 2001. The first five-year review for the Tar Lake Site is scheduled to be conducted before June 2009. In the East Tailing Area of the Tar Lake Site, unlimited use and unrestricted access is allowed.

Community Involvement

Public participation activities have been satisfied as required in CERCLA section 113(k), 42 U.S.C. 9613(k), and CERCLA section 117, 42 U.S.C. 9617. Documents in the docket which EPA relied on for recommendation of the partial deletion of the East Tailing Area on the Tar Lake Site from the NPL are available to the public in the information repositories.

V. Partial Deletion Action

EPA, with concurrence of the State of Michigan, has determined that all appropriate responses under CERCLA have been completed, and that no further response actions, under CERCLA are necessary at the East Tailing Area. Therefore, EPA is deleting the East Tailing Area of the Tar Lake Site from the NPL.

This action will be effective November 21, 2005, unless EPA receives adverse comments by October 21, 2005. If adverse comments are received within the 30-day public comment period, EPA will publish a timely withdrawal of this notice of partial deletion before the effective date of the partial deletion and it will not take effect. Concurrent with this action, EPA will prepare a response to comments and as appropriate continue with the partial deletion process on the basis of the notice of intent to partially delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: September 6, 2005.
Bharat Mathur,
Acting Regional Administrator, Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to part 300 is amended under Michigan “MI” by removing the entry for “The East Tailing Area from the Tar Lake Site” and the township “Mancelona, Michigan.”

Appendix B to Part 300—National Priorities List

Table 1.—General Superfund Section
State | Sitename | City/county | (Notes) ᵃ
* * * * * * *
MI | Tar Lake | Antrim | P
* * * * * * *
ᵃ * * *
P=Sites with partial deletion(s).

* * * * *

[FR Doc. 05-18834 Filed 9-20-05; 8:45 am]

BILLING CODE 6560-50-P